DEPARTMENT OF LABOR

Employment and Training Administration

[TA-W-58,792]

Staffing Solutions, El Paso, TX; Notice of Termination of Investigation

Pursuant to section 221 of the Trade Act of 1974, as amended, an investigation was initiated on February 6, 2006, in response to a worker petition filed by a company official on behalf of workers at Staffing Solutions, El Paso, Texas.

The petition has been deemed invalid. The petitioner is not considered a company official. Consequently, the investigation has been terminated.

Signed at Washington, DC, this 3rd day of March 2006.
Linda G. Poole,
Certifying Officer, Division of Trade Adjustment Assistance.

[FR Doc. E6-4131 Filed 3-21-06; 8:45 am]

BILLING CODE 4510-30-P